DEPARTMENT OF COMMERCE

National Oceanic and Atmospheric Administration

RIN 0648-XY67

Mid-Atlantic Fishery Management Council; Public Meeting

AGENCY: National Marine Fisheries Service (NMFS), National Oceanic and Atmospheric Administration (NOAA), Commerce.

ACTION: Notice of a public meeting.

SUMMARY: The Mid-Atlantic Fishery Management Council's (MAFMC) Spiny Dogfish Monitoring Committee will hold a meeting.

DATES: The meeting will be held on Friday, September 24, 2010, from 10 a.m. to 4 p.m.

ADDRESSES: The meeting will be held at the Hilton Garden Inn Providence Airport/Warwick, One Thurber Street/Jefferson Blvd., Warwick, RI 02886; telephone: (401) 734-9600.

Council address: Mid-Atlantic Fishery Management Council, 800 N. State Street, Suite 201, Dover, DE 19901; telephone: (302) 674-2331.

FOR FURTHER INFORMATION CONTACT: Christopher M. Moore, Ph.D., Executive Director, Mid-Atlantic Fishery Management Council, 800 N. State Street, Suite 201, Dover, DE 19901; telephone: (302) 674-2331, extension 255.

SUPPLEMENTARY INFORMATION: The purpose of the meeting will be to discuss quota recommendations and associated management measures for spiny dogfish for fishing years 2011-15.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the MAFMC's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: August 27, 2010.
Tracey L. Thompson,
Acting Director, Office of Sustainable Fisheries, National Marine Fisheries Service.

[FR Doc. 2010-21881 Filed 9-1-10; 8:45 am]

BILLING CODE 3510-22-S